DEPARTMENT OF THE INTERIOR

National Park Service

[NPS-WASO-NAGPRA-NPS0033999; PPWOCRADN0-PCU00RP14.R50000]

Notice of Inventory Completion: University of Wisconsin Oshkosh, Oshkosh, WI

AGENCY: National Park Service, Interior.

ACTION: Notice.

SUMMARY: The University of Wisconsin Oshkosh has completed an inventory of human remains and associated funerary objects, in consultation with the appropriate Indian Tribes or Native Hawaiian organizations and has determined that there is no cultural affiliation between the human remains and associated funerary objects and any present-day Indian Tribes or Native Hawaiian organizations. Representatives of any Indian Tribe or Native Hawaiian organization not identified in this notice that wish to request transfer of control of these human remains and associated funerary objects should submit a written request to the University of Wisconsin Oshkosh. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the University of Wisconsin Oshkosh at the address in this notice by July 6, 2022.

FOR FURTHER INFORMATION CONTACT: Adrienne Frie, University of Wisconsin Oshkosh, 800 Algoma Blvd., Oshkosh, WI 54901, telephone (920) 424-1365, email friea@uwosh.edu.

SUPPLEMENTARY INFORMATION: Notice is here given in accordance with the Native American Graves Protection and Repatriation Act (NAGPRA), 25 U.S.C. 3003, of the completion of an inventory of human remains and associated funerary objects under the control of the University of Wisconsin Oshkosh, Oshkosh, WI. The human remains and associated funerary objects were removed from Winnebago County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Wisconsin Oshkosh professional staff in consultation with representatives of the Assiniboine and Sioux Tribes of the Fort Peck Indian Reservation, Montana; Bad River Band of the Lake Superior Tribe of Chippewa Indians of the Bad River Reservation, Wisconsin; Bay Mills Indian Community, Michigan; Flandreau Santee Sioux Tribe of South Dakota; Forest County Potawatomi Community, Wisconsin; Grand Traverse Band of Ottawa and Chippewa Indians, Michigan; Ho-Chunk Nation of Wisconsin; Kickapoo Tribe of Oklahoma; Lac Vieux Desert Band of Lake Superior Chippewa Indians of Michigan; Little Shell Tribe of Chippewa Indians of Montana; Match-e-be-nash-she-wish Band of Pottawatomi Indians of Michigan; Menominee Indian Tribe of Wisconsin; Minnesota Chippewa Tribe, Minnesota (Fond du Lac Band; Mille Lacs Band; White Earth Band); Nottawaseppi Huron Band of the Potawatomi, Michigan (previously listed as Huron Potawatomi, Inc.); Oneida Nation (previously listed as Oneida Tribe of Indians of Wisconsin); Onondaga Nation; Otoe-Missouria Tribe of Indians, Oklahoma; Pokagon Band of Potawatomi Indians, Michigan and Indiana; Prairie Band Potawatomi Nation (previously listed as Prairie Band of Potawatomi Nation, Kansas); Red Cliff Band of Lake Superior Chippewa Indians of Wisconsin; Rosebud Sioux Tribe of the Rosebud Indian Reservation, South Dakota; Saginaw Chippewa Indian Tribe of Michigan; Sault Ste. Marie Tribe of Chippewa Indians, Michigan; Shakopee Mdewakanton Sioux Community of Minnesota; Sokaogon Chippewa Community, Wisconsin; Standing Rock Sioux Tribe of North & South Dakota; Stockbridge Munsee Community, Wisconsin; Winnebago Tribe of Nebraska; and one non-federally recognized Indian group, Brothertown Indian Nation.

An invitation to consult was extended to the Cayuga Nation; Cheyenne River Sioux Tribe of the Cheyenne River Reservation, South Dakota; Chippewa Cree Indians of the Rocky Boy's Reservation, Montana (previously listed as Chippewa-Cree Indians of the Rocky Boy's Reservation, Montana); Citizen Potawatomi Nation, Oklahoma; Crow Creek Sioux Tribe of the Crow Creek Reservation, South Dakota; Hannahville Indian Community, Michigan; Iowa Tribe of Kansas and Nebraska; Iowa Tribe of Oklahoma; Keweenaw Bay Indian Community, Michigan; Kickapoo Traditional Tribe of Texas; Kickapoo Tribe of Indians of the Kickapoo Reservation in Kansas; Lac Courte Oreilles Band of Lake Superior Chippewa Indians of Wisconsin; Lac du Flambeau Band of Lake Superior Chippewa Indians of the Lac du Flambeau Reservation of Wisconsin; Little River Band of Ottawa Indians, Michigan; Little Traverse Bay Bands of Odawa Indians, Michigan; Lower Brule Sioux Tribe of the Lower Brule Reservation, South Dakota; Lower Sioux Indian Community in the State of Minnesota; Miami Tribe of Oklahoma; Minnesota Chippewa Tribe, Minnesota (Bois Forte Band (Nett Lake); Grand Portage Band; Leech Lake Band); Oglala Sioux Tribe (previously listed as Oglala Sioux Tribe of the Pine Ridge Reservation, South Dakota); Oneida Indian Nation (previously listed as Oneida Nation of New York); Ottawa Tribe of Oklahoma; Peoria Tribe of Indians of Oklahoma; Prairie Island Indian Community in the State of Minnesota; Red Lake Band of Chippewa Indians, Minnesota; Sac & Fox Nation of Missouri in Kansas and Nebraska; Sac & Fox Nation, Oklahoma; Sac & Fox Tribe of the Mississippi in Iowa; Saint Regis Mohawk Tribe (previously listed as St. Regis Band of Mohawk Indians of New York); Santee Sioux Nation, Nebraska; Seneca Nation of Indians (previously listed as Seneca Nation of New York); Seneca-Cayuga Nation (previously listed as Seneca-Cayuga Tribe of Oklahoma); Spirit Lake Tribe, North Dakota; St. Croix Chippewa Indians of Wisconsin; The Osage Nation (previously listed as Osage Tribe); Tonawanda Band of Seneca (previously listed as Tonawanda Band of Seneca Indians of New York); Turtle Mountain Band of Chippewa Indians of North Dakota; Tuscarora Nation; Upper Sioux Community, Minnesota; Yankton Sioux Tribe of South Dakota; and two non-federally recognized Indian groups, the Burt Lake Band of Ottawa and Chippewa Indians; and the Grand River Band of Ottawa Indians.

Hereafter, all Indian Tribes and groups listed in this section are referred to as “The Consulted and Notified Tribes and Groups.”

History and Description of the Remains

Sometime prior to 1972, human remains representing, at minimum, two individuals were removed from the Hoffman Site (47-WN-0132) in Winnebago County, WI. In 1972, James Peterson gathered a private collection from the site and donated it to the University of Wisconsin Oshkosh. According to Alaric Faulkner, who accepted the donation on behalf of University of Wisconsin Oshkosh, Peterson's collection includes technologically uniform lithic materials of limited use for dating the site. The range of ceramic types point Faulkner towards a Late Woodland and Oneota association. Faulkner notes a ground stone piece that is a “probable mid-section of a `bird stone.' ” The human remains had been commingled with the other materials in this donation. The human remains belong to an individual 1.9-3.2 years old (47WN0132_PETERS.0001.HR.0001a through 47WN1032_PETERS.0001.HR.0004a) and an individual 11.8-13.2 years old (47WN0132_PETERS.0001.HR.0001b). No known individuals were identified. The 23 associated funerary objects are one lot of kaolin pipe fragments (47WN0132_PETERS.0001.CC.0001 through 47WN0132_PETERS.0001.CC.0004), one ground stone bird fragment (47WN0132_PETERS.0001.LI.0001), two pieces of ground hematite (47WN0132_PETERS.0001.LI.0002), one lot of projectile points (47WN0132_PETERS.0001.LI.0003 through 47WN0132_PETERS.0001.LI.0006), one lot of chipped stone flake tools (47WN0132_PETERS.0001.LI.0007), one lot of debitage pieces (47WN0132_PETERS.0001.LI.0008), one pre-contact ceramic pipe (47WN0132_PETERS.0001.PC.0001), one lot of Lake Winnebago Trailed, grit-tempered sherds (47WN0132_PETERS.0001.PC.0002 through 47WN0132_PETERS.0001.PC.0003), one grit-tempered, cord-wrapped paddled body sherd (47WN0132_PETERS.0001.PC.0004), one lot of grit-tempered, smoothed sherds (47WN0132_PETERS.0001.PC.0005 and 47WN0132_PETERS.0001.PC.0008), one grit-tempered, trailed body sherd (47WN0132_PETERS.0001.PC.0006), one lot of grit-tempered, cord-marked sherds (47WN0132_PETERS.0001.PC.0007 and 47WN0132_PETERS.0001.PC.0009), one lot of grit-tempered sherds with incised decoration (47WN0132_PETERS.0001.PC.0010 and 47WN0132_PETERS.0001.PC.0013), one grit-tempered rim sherd with punctate decoration (47WN0132_PETERS.0001.PC.0011), one lot of grit-tempered sherds with fingernail impressions (47WN0132_PETERS.0001.PC.0012), one lot of grit-tempered sherds with brushed surfaces (47WN0132_PETERS.0001.PC.0014), one lot of shell-tempered sherds with trailed decoration (47WN0132_PETERS.0001.PC.0015), one lot of shell-tempered sherds with impressed decoration (47WN0132_PETERS.0001.PC.0016), one lot of grit-tempered sherds with dentate impressions (47WN0132_PETERS.0001.PC.0017), one lot of shell-tempered sherds with trailed, punctate, and stamped decoration (47WN0132_PETERS.0001.PC.0018), one lot of shell-tempered, smoothed sherds (47WN0132_PETERS.0001.PC.0019 through 47WN0132_PETERS.0001.PC.0020), and one grit-tempered, cord-wrapped paddled sherd (47WN0132_PETERS.0001.PC.0021).

In 1993, human remains representing, at minimum, one individual were removed from the McCauley Site (47-WN-0222) in Winnebago County, WI. The human remains were encountered during an archeological field school run by Carol Mason, who investigated the McCauley Site as part of her Fur Trade Era Site Survey. She conducted shovel tests across two properties that fall inside the Site's boundaries. Human remains were later discovered at the University of Wisconsin Oshkosh in excavation bags labeled “Lot 14 (Shovel Test 5)” and “Lot 18 (Shovel Test 16).” Although the human remains come from separate shovel tests, they are determined to belong to one individual. The human remains belong to an individual 8.5 years old (47WN0222_UWO26.0015.HR.0001a; 47WN0222_UWO26.0019.HR.0002a). According to the Wisconsin Historic Preservation Database and studies dating from the 1930s to 2017, the site dates from the Post-Contact period back to the Oneota, Woodland, and Archaic periods. Lot 14 (Shovel Test 5) was located very near Kannenberg's 1930-1932 northern excavations and just south of a 2017 shovel test, which yielded shell-tempered and grit-tempered pottery identified as, variously, Middle Woodland Kegonsa Stamped or Shorewood Cord Roughened ware, unknown Oneota type ware, Late Woodland Madison Cord Impressed ware, and others (Picard et al. 2018: 78-82). No known individual was identified. The 23 associated funerary objects are one lot of faunal remains including mammal, fish, bird, and unidentifiable animal bones and mollusk shells (47WN0222_UWO26.0015.FA.0001 through 47WN0222_UWO26.0015.FA.0010), one lot of charcoal (47WN0222_UWO26.0015.FL.0001), one piece of flat glass (47WN0222_UWO26.0015.GL.0001), nine pieces of debitage (47WN0222_UWO26.0015.LI.0001), three pieces of trailed, shell-tempered pottery (47WN0222_UWO26.0015.PC.0001), two pieces of cord-wrapped paddled grit-tempered pottery (47WN0222_UWO26.0015.PC.0002), one sherd of refined earthenware (47WN0222_UWO26.0019.CC.0001), one piece of unidentifiable burnt bone (47WN0222_UWO26.0019.FA.0001), one piece of debitage (47WN0222_UWO26.0019.LI.0001), one square-cut nail (47WN0222_UWO26.0019.ME.0001), one rim sherd of shell-tempered pottery (47WN0222_UWO26.0019.PC.0001), and one body sherd of cord-marked, grit-tempered pottery (47WN0222_UWO26.0019.PC.0002).

In 1985, human remains representing, at minimum, one individual, were removed from the Fox Tower Site (47-WN-0258) in Winnebago County, WI, by Richard and Carol Mason, who called this Site the “Cole Site” after the name of the landowner. In 2018, the Masons donated their collection to the University of Wisconsin Oshkosh. Human remains (47WN0258_MASON1.0001.HR.0001a through 47WN0258_MASON1.0001.HR.0005a) were found in the box with the collection, but no other information was recorded by the Masons. The human remains belong to an individual of unknown age and sex. No known individual was identified. The 18 associated funerary objects are one terracotta pottery sherd (47WN0258_MASON1.0001.CC.0001), one turtle shell fragment (47WN0258_MASON1.0001.FA.0002), one large mammal metapodial (47WN0258_MASON1.0001.FA.0003), one proximal shaft of a bird humerus and one proximal shaft of bird phalanx (47WN0258_MASON1.0001.FA.0004; 47WN0258_MASON1.0001.FA.0008), three unidentifiable bone fragments, (one of them with some signs of burning (47WN0258_MASON1.0001.FA.0005; 47WN0258_MASON1.0001.FA.0006)), one lot of Naiad shells (47WN0258_MASON1.0001.FA.0007), one chert corner-notched expanding stemmed projectile point (47WN0258_MASON1.0001.LI.0001), one chert Adena projectile point (47WN0258_MASON1.0001.LI.0002), one chipped stone flake tool (47WN0258_MASON1.0001.LI.0003), one projectile point fragment, missing base (47WN0258_MASON1.0001.LI.0004), one chert scraper (47WN0258_MASON1.0001.LI.0005), one chipped stone biface (47WN0258_MASON1.0001.LI.0006), one lot of lithic debitage (47WN0258_MASON1.0001.LI.0007), one rock (47WN0258_MASON1.0001.LI.0008), one lot of grit-tempered ceramic body sherd with cord-marked exterior and small grit-tempered ceramic fragments (47WN0258_MASON1.0001.PC.0001 through 47WN0258_MASON1.0001.PC.0002), and one shell-tempered pottery fragment (47WN0258_MASON1.0001.PC.0003).

Determinations Made by the University of Wisconsin Oshkosh

Officials of the University of Wisconsin Oshkosh have determined that:

• Pursuant to 25 U.S.C. 3001(9), the human remains described in this notice are Native American based on archeological information.

• Pursuant to 25 U.S.C. 3001(9), the human remains described in this notice represent the physical remains of four individuals of Native American ancestry.

• Pursuant to 25 U.S.C. 3001(3)(A), the 64 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Ho-Chunk Nation of Wisconsin; Iowa Tribe of Kansas and Nebraska; Iowa Tribe of Oklahoma; Otoe-Missouria Tribe of Indians, Oklahoma; and the Winnebago Tribe of Nebraska.

• Treaties, Acts of Congress, or Executive Orders, indicate that the land from which the Native American human remains and associated funerary objects were removed is the aboriginal land of the Ho-Chunk Nation of Wisconsin; Iowa Tribe of Kansas and Nebraska; Iowa Tribe of Oklahoma; Menominee Indian Tribe of Wisconsin; Otoe-Missouria Tribe of Indians, Oklahoma; Stockbridge Munsee Community, Wisconsin; and the Winnebago Tribe of Nebraska.

• According to other authoritative government sources, the land from which the Native American human remains and associated funerary objects were removed is the aboriginal land of the Assiniboine and Sioux Tribes of the Fort Peck Indian Reservation, Montana; Bad River Band of the Lake Superior Tribe of Chippewa Indians of the Bad River Reservation, Wisconsin; Bay Mills Indian Community, Michigan; Cheyenne River Sioux Tribe of the Cheyenne River Reservation, South Dakota; Chippewa Cree Indians of the Rocky Boy's Reservation, Montana (previously listed as Chippewa-Cree Indians of the Rocky Boy's Reservation, Montana); Citizen Potawatomi Nation, Oklahoma; Crow Creek Sioux Tribe of the Crow Creek Reservation, South Dakota; Flandreau Santee Sioux Tribe of South Dakota; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Shell Tribe of Chippewa Indians of Montana; Lower Brule Sioux Tribe of the Lower Brule Reservation, South Dakota; Lower Sioux Indian Community in the State of Minnesota; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Oglala Sioux Tribe (previously listed as Oglala Sioux Tribe of the Pine Ridge Reservation, South Dakota); Pokagon Band of Potawatomi Indians, Michigan and Indiana; Prairie Band Potawatomi Nation (previously listed as Prairie Band of Potawatomi Nation, Kansas); Prairie Island Indian Community in the State of Minnesota; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Santee Sioux Nation, Nebraska; Sault Ste. Marie Tribe of Chippewa Indians, Michigan; Shakopee Mdewakanton Sioux Community of Minnesota; Sisseton-Wahpeton Oyate of the Lake Traverse Reservation, South Dakota; Sokaogon Chippewa Community, Wisconsin; Spirit Lake Tribe, North Dakota; St. Croix Chippewa Indians of Wisconsin; Standing Rock Sioux Tribe of North & South Dakota; Turtle Mountain Band of Chippewa Indians of North Dakota; Upper Sioux Community, Minnesota; and the Yankton Sioux Tribe of South Dakota.

• Pursuant to 43 CFR 10.11(c)(1), the disposition of the human remains and associated funerary objects may be to the Assiniboine and Sioux Tribes of the Fort Peck Indian Reservation, Montana; Bad River Band of the Lake Superior Tribe of Chippewa Indians of the Bad River Reservation, Wisconsin; Bay Mills Indian Community, Michigan; Cheyenne River Sioux Tribe of the Cheyenne River Reservation, South Dakota; Chippewa Cree Indians of the Rocky Boy's Reservation, Montana (previously listed as Chippewa-Cree Indians of the Rocky Boy's Reservation, Montana); Citizen Potawatomi Nation, Oklahoma; Crow Creek Sioux Tribe of the Crow Creek Reservation, South Dakota; Flandreau Santee Sioux Tribe of South Dakota; Forest County Potawatomi Community, Wisconsin; Grand Traverse Band of Ottawa and Chippewa Indians, Michigan; Hannahville Indian Community, Michigan; Ho-Chunk Nation of Wisconsin; Iowa Tribe of Kansas and Nebraska; Iowa Tribe of Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Shell Tribe of Chippewa Indians of Montana; Lower Brule Sioux Tribe of the Lower Brule Reservation, South Dakota; Lower Sioux Indian Community in the State of Minnesota; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Oglala Sioux Tribe (previously listed as Oglala Sioux Tribe of the Pine Ridge Reservation, South Dakota); Otoe-Missouria Tribe of Indians, Oklahoma; Pokagon Band of Potawatomi Indians, Michigan and Indiana; Prairie Band Potawatomi Nation (previously listed as Prairie Band of Potawatomi Nation, Kansas); Prairie Island Indian Community in the State of Minnesota; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Santee Sioux Nation, Nebraska; Sault Ste. Marie Tribe of Chippewa Indians, Michigan; Shakopee Mdewakanton Sioux Community of Minnesota; Sisseton-Wahpeton Oyate of the Lake Traverse Reservation, South Dakota; Sokaogon Chippewa Community, Wisconsin; Spirit Lake Tribe, North Dakota; St. Croix Chippewa Indians of Wisconsin; Standing Rock Sioux Tribe of North & South Dakota; Stockbridge Munsee Community, Wisconsin; Turtle Mountain Band of Chippewa Indians of North Dakota; Upper Sioux Community, Minnesota; Winnebago Tribe of Nebraska; and the Yankton Sioux Tribe of South Dakota (hereafter referred to as “The Tribes”).

Additional Requestors and Disposition

Representatives of any Indian Tribe or Native Hawaiian organization not identified in this notice that wish to request transfer of control of these human remains and associated funerary objects should submit a written request with information in support of the request to Adrienne Frie, University of Wisconsin Oshkosh, 800 Algoma Blvd., Oshkosh, WI 54901, telephone (920) 424-1365, email friea@uwosh.edu, by July 6, 2022. After that date, if no additional requestors have come forward, transfer of control of the human remains and associated funerary objects to The Tribes may proceed.

The University of Wisconsin Oshkosh is responsible for notifying The Consulted and Notified Tribes and Groups that this notice has been published.

Dated: May 25, 2022.
Melanie O'Brien,
Manager, National NAGPRA Program.

[FR Doc. 2022-12112 Filed 6-3-22; 8:45 am]

BILLING CODE 4312-52-P